DEPARTMENT OF ENERGY

Federal Energy Regulatory Commission

Combined Notice of Filings

Take notice that the Commission has received the following Natural Gas Pipeline Rate and Refund Report filings:

Docket Number: PR21-29-000.

Applicants: The East Ohio Gas Company.

Description: Tariff filing per 284.123(b),(e)+(g): Operating Statement of The East Ohio Gas Company 02/09/2021 to be effective 1/6/2021 under PR21-29.

Filed Date: 2/9/2021.

Accession Number: 202102095148.

Comments Due: 5 p.m. ET 3/2/2021.

284.123(g) Protests Due: 5 p.m. ET 4/12/2021.

Docket Number: PR21-30-000.

Applicants: The East Ohio Gas Company.

Description: Tariff filing per 284.123(b),(e)/: Historical Operating Statements of The East Ohio Gas Company to be effective 9/29/2010 under PR21-30.

Filed Date: 2/10/2021.

Accession Number: 202102105108.

Comments/Protests Due: 5 p.m. ET 3/3/2021.

Docket Numbers: RP21-473-000.

Applicants: Southern Natural Gas Company, L.L.C.

Description: § 4(d) Rate Filing: Fuel Retention Rates—Summer 2021 to be effective 4/1/2021.

Filed Date: 2/11/21.

Accession Number: 20210211-5033.

Comments Due: 5 p.m. ET 2/23/21.

Docket Numbers: RP21-474-000.

Applicants: Elba Express Company, L.L.C.

Description: § 4(d) Rate Filing: Fuel Tracker Filing—2021 to be effective 4/1/2021.

Filed Date: 2/11/21.

Accession Number: 20210211-5047.

Comments Due: 5 p.m. ET 2/23/21.

Docket Numbers: RP21-475-000.

Applicants: Texas Eastern Transmission, LP.

Description: § 4(d) Rate Filing: Negotiated Rates—Nextera Agreements eff 03-01-21 to be effective 3/1/2021.

Filed Date: 2/11/21.

Accession Number: 20210211-5057.

Comments Due: 5 p.m. ET 2/23/21.

Docket Numbers: RP21-476-000.

Applicants: Northern Natural Gas Company.

Description: Northern Natural Gas submits report of the penalty and daily delivery variance charge (DDVC) revenues that have been credited to shippers under RP21-426.

Filed Date: 2/11/21.

Accession Number: 20210211-5076.

Comments Due: 5 p.m. ET 2/23/21.

Docket Numbers: RP21-477-000.

Applicants: Rockies Express Pipeline LLC.

Description: § 4(d) Rate Filing: REX 2021-02-11 Non-Conforming Negotiated Rate Amendment to be effective 2/11/2021.

Filed Date: 2/11/21.

Accession Number: 20210211-5100.

Comments Due: 5 p.m. ET 2/23/21.

Docket Numbers: RP21-478-000.

Applicants: Algonquin Gas Transmission, LLC.

Description: § 4(d) Rate Filing: Non-Conforming Agreement—Northern Utilities 510939 to be effective 2/12/2021.

Filed Date: 2/11/21.

Accession Number: 20210211-5119.

Comments Due: 5 p.m. ET 2/23/21.

Docket Numbers: RP21-479-000.

Applicants: Algonquin Gas Transmission, LLC.

Description: § 4(d) Rate Filing: Negotiated Rate—Northern Utilities 510939 eff 2-12-21 to be effective 2/12/2021.

Filed Date: 2/11/21.

Accession Number: 20210211-5124.

Comments Due: 5 p.m. ET 2/23/21.

Docket Numbers: RP21-480-000.

Applicants: Maritimes & Northeast Pipeline, L.L.C.

Description: § 4(d) Rate Filing: Negotiated Rate—Northern Utilities eff 2-12-21 to be effective 2/12/2021.

Filed Date: 2/11/21.

Accession Number: 20210211-5131.

Comments Due: 5 p.m. ET 2/23/21.

Docket Numbers: RP21-481-000.

Applicants: Cove Point LNG, LP.

Description: Compliance filing Cove Point—February 11, 2021 Service Agreement Termination Notice.

Filed Date: 2/11/21.

Accession Number: 20210211-5153.

Comments Due: 5 p.m. ET 2/23/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2021.
Nathaniel J. Davis, Sr.,
Deputy Secretary.

[FR Doc. 2021-03495 Filed 2-19-21; 8:45 am]

BILLING CODE 6717-01-P